DEPARTMENT OF COMMERCE

National Oceanic and Atmospheric Administration

RIN 0648-XC11

Marine Mammals; File No. 1128-1922

AGENCY: National Marine Fisheries Service (NMFS), National Oceanic and Atmospheric Administration (NOAA), Commerce.

ACTION: Notice; receipt of application.

SUMMARY: Notice is hereby given that Eduardo Mercado III, Ph.D, Department of Psychology, 350 Park Hall, University at Buffalo, SUNY, Buffalo, New York, 14260, has applied in due form for a permit to conduct research on humpback whales (Megaptera novaeangliae).

DATES: Written, telefaxed, or e-mail comments must be received on or before September 20, 2007.

ADDRESSES: The application and related documents are available for review upon written request or by appointment in the following offices:

Permits, Conservation and Education Division, Office of Protected Resources, NMFS, 1315 East-West Highway, Room 13705, Silver Spring, MD 20910; phone (301) 713-2289; fax (301) 427-2521; and

Southeast Region, NMFS, 263 13th Avenue South, Saint Petersburg, Florida 33701; phone (727) 824-5301; fax (727) 824-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1128-1922.

FOR FURTHER INFORMATION CONTACT: Amy Hapeman or Carrie Hubard, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Dr. Mercado is requesting a five-year scientific research permit to expose humpback whales to playback sessions in the coastal waters of Puerto Rico. The purpose of this research is to develop methods for testing the hearing and auditory perceptual capabilities of humpback whales in order to better predict when anthropogenic sounds may interfere with social behaviors, particularly mating and group feeding. Up to 200 humpback whales would be harassed by playback experiments (active acoustics) and up to 30 additional humpbacks would be harassed by close approach during vessel surveys for passive acoustic recordings annually. In addition, up to 45 Stenellid dolphins (Stenella spp.), 45 bottlenose dolphins (Tursiops truncatus), 5 sperm whales (Physeter macrocephalus), and 5 Cuvier's beaked whales (Ziphius cavirostris) may be incidentally harassed annually during playback sessions.

Concurrent with the publication of this notice in the Federal Register, NMFS is forwarding copies of this application to the Marine Mammal Commission and its Committee of Scientific Advisors.

Dated: August 15, 2007.
P. Michael Payne,
Chief, Permits, Conservation and Education Division, Office of Protected Resources, National Marine Fisheries Service.

[FR Doc. E7-16462 Filed 8-20-07; 8:45 am]

BILLING CODE 3510-22-S